DEPARTMENT OF COMMERCE

International Trade Administration

Initiation of Five-Year (Sunset) Review; Correction

AGENCY: Encforcement and Compliance, International Trade Administration, Commerce.

SUMMARY: On June 2, 2017, the Department of Commerce (the Department) published a notice in the Federal Register that inadvertently omitted the initiation for the sunset review of the antidumping duty order on Circular Welded Non-Alloy Steel pipe from Taiwan. This notice is a correction.

DATES: Effective June 1, 2017.

FOR FURTHER INFORMATION CONTACT: Brenda E. Waters, Office of AD/CVD Operations, Customs and Liaison Unit, International Trade Administration, U.S. Department of Commerce, 1401 Constitution Avenue NW., Washington, DC 20230, telephone: (202) 482-4735.

SUPPLEMENTARY INFORMATION:

Background

In the Initiation Notice published in the Federal Register on June 2, 2017,¹ the Department inadvertenly omitted the initiation for the sunset review of the antidumping duty order on Circular Welded Non-Alloy Steel Pipe from Taiwan. The Department is now correcting that notice. The initiation is effective June 1, 2017.

¹ See Initiation of Five-Year (Sunset) Reviews, 82 FR 25599 (June 2, 2017) (Initiation Notice).

Correction of Initiation of Review

In accordance with 19 CFR 351.218(c), effective June 1, 2017, we are initiating the Sunset Review of the following antidumping duty order:

DOC Case No. | ITC Case No. | Country | Product | Department contact
A-583-814 | 731-TA-536 | Taiwan | Circular Welded Non-Alloy Steel Pipe (4th Review) | Jacqueline Arrowsmith (202) 482-5255.

Effect of Correction of Initiation Notice

Additional information concerning the Department's Sunset proceedings can be found in the “Filing Information,” “Letters of Appearance and Administrative Protective Orders,” and “Information Required from Interested Parties” sections of the Initiation Notice.² All filing requirements and deadlines under section 751(c) of the Tariff Act of 1930, as amended (“the Act”), and 19 CFR 351.218 for the above-identified Sunset Review were established with publication of the Initiation Notice on June 2, 2017. Because of the circumstances requiring this correction of the Intiation Notice, and pursuant to 19 CFR 351.302(b), the Department will consider requests from interested parties for the extension of the deadlines established by 19 CFR 351.218(d)(1)(i) for filing of a notice of intent to particpate, by 19 CFR 351.218(d)(2)(i) for filing of a statement of waiver, and by 19 CFR 351.218(d)(3)(i) for filing of a substantive response.

² Id., at 25599-25600.

This correction of the notice of initiation is published in accordance with section 751(c) of the Act and 19 CFR 351.218(c).

Dated: June 13, 2017.
Gary Taverman,
Deputy Assistant Secretary for Antidumping and Countervailing Duty Operations.

[FR Doc. 2017-12523 Filed 6-15-17; 8:45 am]

BILLING CODE 3510-DS-P